SURFACE TRANSPORTATION BOARD

[Docket No. AB 290 (Sub-No. 401X); Docket No. AB 1058X]

Tennessee, Alabama & Georgia Railway Company—Discontinuance of Service Exemption—in Walker County, Ga.; Chattooga & Chickamauga Railway Company—Discontinuance of Lease and Trackage Rights Operations—in Walker County, Ga. and Hamilton County, Tenn.

Tennessee, Alabama & Georgia Railway Company (TAG), a wholly owned subsidiary of Norfolk Southern Railway Company, and Chattooga & Chickamauga Railway Company (CCKY) (collectively, TAG and CCKY are referred to as Railroads) have jointly filed a verified notice of exemption under 49 CFR pt. 1152 subpart F—Exempt Abandonments and Discontinuances of Service for (1) TAG to discontinue service over approximately 16.8 miles of rail line extending between milepost TA 6.3 (at or near Flintstone, Ga.) and milepost TA 23.l (at or near Hedges, Ga.) in Walker County, Ga.; (2) CCKY to discontinue its lease of approximately 19.20 miles of rail line owned by TAG and the Alabama Great Southern Railroad Company (AGS) extending between milepost TA 3.94 (at Chattanooga, Tenn.) and milepost TA 23.1 in Hamilton County, Tenn., and Walker County, Ga.; and (3) CCKY to discontinue overhead trackage rights it holds over the following connecting lines, all located in Chattanooga, Hamilton County, Tenn.: (a) AGS's line between milepost G-2.66 at a connection with TAG and milepost G-1.02 at the north end of Shipp Yard, a distance of 1.6 miles; (b) Central of Georgia Railroad Company's (COG) line between milepost C-445.4 and its connection with TAG at milepost TA 3.94, a distance of approximately 1.5 miles; and (c) TAG's rail line between milepost TA 3.94 and milepost TA 3.39 (at TAG's connection with AGS), a distance of approximately 0.55 miles (collectively, the “Line”). The Line traverses United States Postal Zip Codes 30725, 30707, 37407, 37408, 37409, and 37410.

The Railroads have certified that: (1) They have handled no local or overhead common carrier service over the Line for at least two years; (2) overhead traffic, if there were any, could be rerouted over other lines; (3) no formal complaint filed by a user of a rail service on the Line (or by a state or local government entity acting on behalf of such user) regarding cessation of service over the Line is pending either with the Surface Transportation Board (Board) or with any U.S. District Court or has been decided in favor of a complainant within the two-year period; and (4) the requirements at 49 CFR 1105.12 (newspaper publication) and 49 CFR 1152.50(d)(1) (notice to government agencies) have been met.

As a condition to these exemptions, any employee adversely affected by the discontinuances of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) ¹ to subsidize continued rail service has been received, these exemptions will be effective August 15, 2018, unless stayed pending reconsideration. Petitions to stay that do not involve environmental issues and formal expressions of intent to file an OFA to subsidize continued rail service under 49 CFR 1152.27(c)(2) ² must be filed by July 26, 2018.³ Petitions for reconsideration must be filed by August 6, 2018, with the Surface Transportation Board, 395 E Street SW, Washington, DC 20423-0001.

¹ The Board modified its OFA procedures effective July 29, 2017. Among other things, the OFA process now requires potential offerors, in their formal expression of intent, to make a preliminary financial responsibility showing based on a calculation using information contained in the carrier's filing and publicly available information. See Offers of Financial Assistance, EP 729 (STB served June 29, 2017); 82 FR 30,997 (July 5, 2017).

² Each OFA must be accompanied by the filing fee, which currently is set at $1,800. See Regulations Governing Fees for Servs. Performed in Connection with Licensing & Related Servs.—2017 Update, EP 542 (Sub-No. 25) (STB served July 28, 2017).

³ Because these are discontinuance proceedings and not abandonments, trail use/rail banking and public use conditions are not appropriate. Because there will be an environmental review during abandonment, these discontinuances do not require environmental review.

A copy of any petition filed with Board should be sent to the Railroads' representative, William A. Mullins, Baker & Miller PLLC, 2401 Pennsylvania Ave. NW, Suite 300, Washington, DC 20037.

If the verified notice contains false or misleading information, the exemption is void ab initio.

Board decisions and notices are available on our website at: www.stb.gov.

Decided: July 11, 2018.
By the Board, Scott M. Zimmerman, Acting Director, Office of Proceedings.
Marline Simeon,
Clearance Clerk.

[FR Doc. 2018-15142 Filed 7-13-18; 8:45 am]

BILLING CODE 4915-01-P